DEPARTMENT OF TRANSPORTATION

Federal Motor Carrier Safety Administration

[Docket No. FMCSA-2006-24195]

Notice of Request for Comments on Extension of Currently Approved Information Collections: OMB Control Numbers 2126-0032 and 2126-0033 (Financial and Operating Statistics for Motor Carriers of Property)

AGENCY: Federal Motor Carrier Safety Administration (FMCSA), DOT.

ACTION: Notice and request for comments.

SUMMARY: In accordance with the Paperwork Reduction Act of 1995 FMCSA announces its intent to submit two currently-approved Information Collection Requests (ICRs) described to the Office of Management and Budget (OMB) for review and approval. The ICRs describes two information collection activities and their expected costs and burdens. The Federal Register notice allowing for a 60-day comment period on the ICRs was published on January 18, 2006 (71 FR 2985). The agency received five comments in support of the continuation of these ICRs.

DATES: Please send your comments by May 30, 2006. OMB must receive your comments by this date in order to act quickly on the ICR.

ADDRESSES: Send comments to the Office of Information and Regulatory Affairs, Office of Management and Budget, 725 Seventeenth Street, NW., Washington, DC 20503, Attention: DOT/FMCSA Desk Officer.

FOR FURTHER INFORMATION CONTACT: Ms. Toni Proctor, phone: (202) 366-2998; Fax: (202) 366-3518; email: toni.proctor@fmcsa.dot.gov; Federal Motor Carrier Safety Administration, U.S. Department of Transportation, Office of Research and Analysis, 400 Seventh Street SW., Suite 8214, Washington, DC 20590. Office hours are from 8 a.m. to 4 p.m., Monday through Friday, except Federal Holidays.

SUPPLEMENTARY INFORMATION: (1) Title: Annual Report of Class I and Class II Motor Carriers of Property (Including Household Goods and Dual Property Motor Carriers) (formerly OMB Control Number 2139-0004). This information collection (IC) was transferred from the former Bureau of Transportation Statistics (BTS) to FMCSA on September 29, 2004 (69 FR 51009).

FMCSA IC: OMB Control No: 2126-0032.

Form No.: Form M.

Type of Review: Extension of a currently-approved information collection.

Respondents: Class I and Class II Motor Carriers of Property.

Number of Respondents: 3,000 (per year).

Estimated Time Per Response: 9 hours.

Expiration Date: April 30, 2006.

Frequency: Annually.

Total Annual Burden: 27,000 hours [3,000 respondents × 9 hours per response = 27,000].

(2) Title: Quarterly Financial Report of Class I Motor Carriers of Property and Household Goods (formerly OMB Control Number 2139-0002). This information collection was transferred from BTS to FMCSA on September 29, 2004 (69 FR 51009).

FMCSA IC: OMB Control No: 2126-0033.

Form No.: Form QFR.

Type of Review: Extension of a currently approved information collection.

Respondents: Class I Motor Carriers of Property.

Number of Respondents: 1,000 (per quarter).

Estimated Time Per Response: 1.8 hours (27 minutes per quarter).

Expiration Date: April 30, 2006.

Frequency: Quarterly.

Total Annual Burden: 1,800 hours [1,000 respondents × 1.8 hours per response = 1,800].

Background

The Annual Report of Class I and Class II Motor Carriers of Property and Household Goods (Form M) and Quarterly Financial Report of Class I Motor Carriers of Property (Including Household Goods and Dual Property Motor Carriers) (Form QFR) are mandated reporting requirements applicable for for-hire motor carriers. Motor carriers (including interstate and intrastate) ¹ subject to the Federal Motor Carrier Safety Regulations (FMCSRs) are classified on the basis of their gross carrier operating revenues. Under the financial and operating statistics program, FMCSA collects balance sheet and income statement data, along with information on safety needs, tonnage, mileage, employees, transportation equipment and other related data. FMCSA may also ask carriers to respond to surveys concerning their operations. The data and information collected will be made publicly available and used by FMCSA to determine a motor carrier's compliance with the F&OS program requirements set forth in subchapter B of 49 CFR part 1420.

¹ For purposes of the Financial and Operating Statistics (F&OS) program, carriers are classified into the following three groups; (1) Class I carriers are those having annual carrier operating revenues (including interstate and intrastate) of $10 million or more after applying the revenue deflator formula in Note A of part 1420; (2) Class II carriers are those having annual carrier operating revenues (including interstate and intrastate) of at least $3 million but less than $10 million after applying the revenue deflator formula in Note A of part 1420; and (3) Class III carriers are those having annual carrier operating revenues (including interstate and intrastate) of less than $3 million after applying the revenue deflator formula in Note A of part 1420.

The regulations were formerly administered by the Interstate Commerce Commission and later transferred to the U.S. Department of Transportation on January 1, 1996, by section 103 of the Interstate Commerce Commission Termination Act of 1995 (ICCTA) (Pub. L. 104-88, 109 Stat. 803, December 29, 1995), now codified at 49 U.S.C. 14123. The Secretary of Transportation (Secretary) transferred the authority to administer the F&OS program to the Bureau of Transportation Statistics on September 30, 1998 (63FR 52192). Pursuant to this authority, the BTS, now part of the Research and Innovative Technology Administration (RITA), became the DOT modal administration responsible for implementing the F&OS program and requirements in 49 CFR part 1420. On September 29, 2004, the Secretary transferred the responsibility for the F&OS program from BTS to FMCSA (69 FR 51009). FMCSA plans to publish a final rule in the future to transfer and re-designate the F&OS program reporting requirements at 49 CFR part 1420 from BTS (now RITA) to FMCSA.

We particularly request comments on: (1) Whether the collection of information is necessary for FMCSA to meet its goal of reducing truck crashes and its usefulness to this goal; (2) the accuracy of the estimate of the burden of the information collection; (3) ways to enhance the quality, utility and clarity of the information collected; and (4) ways to minimize the burden of the collection of information on respondents, including using automated collection techniques or other forms of information technology. The agency will summarize and/or include your comments in the request for OMB's clearance of these information collections.

Issued on April 20, 2006.
Warren E. Hoemann,
Acting Administrator.

[FR Doc. E6-6352 Filed 4-26-06; 8:45 am]

BILLING CODE 4910-EX-P